SELECTIVE SERVICE SYSTEM

32 CFR Parts 1602, 1605, 1609, and 1656

RIN 3240-AA01

Alternative Service Worker Appeals of Denied Job Reassignments

AGENCY: Selective Service System

ACTION: Final rule.

SUMMARY: The Selective Service System (SSS) amends its regulations regarding the procedures for conscientious objectors, who have been placed in the Alternative Service Program as Alternative Service Workers (ASW), to appeal denied requests for job reassignments during a military draft. Civilian Review Boards (CRB), whose sole responsibility is to decide ASW appeals of denied job reassignments, are abolished with their responsibilities transferred to District Appeal Boards (DAB). This organizational change is necessary to ensure a more efficient and economical administration of the SSS. Its primary intended effect is to eliminate the administrative costs of maintaining separate appeal boards for ASWs without adversely impacting on the Agency's ability to expeditiously decide appeals of denied job reassignments or appeals of local board classification decisions. A secondary intended effect is to improve customer service to ASWs during a military draft.

EFFECTIVE DATE: April 16, 2004.

FOR FURTHER INFORMATION CONTACT: Rudy G. Sanchez, Jr., Office of the General Counsel, Selective Service System, 1515 Wilson Blvd., Arlington, VA 22209-2425. 703-605-4012.

SUPPLEMENTARY INFORMATION:

Proposed Rule and Public Comment

The proposed amendments to Selective Service Regulations were published for public comment in the Federal Register on February 6, 2004 (69 FR 5797). No comments were received. The proposed amendments to Selective Service regulations will become a final rule.

Background

Selective Service regulations are published pursuant to section 13(b) of the Military Selective Service Act (MSSA), 50 U.S.C. App. 463(b), and Executive Order 11623. The regulations implement the MSSA (50 U.S.C. App. 451 et seq.), which authorizes the President to create and establish within the Selective Service System civilian local boards, civilian appeal boards, and such other civilian agencies, including agencies of appeal, as may be necessary to carry out its functions [50 U.S.C. App. 460(b)(3)]. Executive Order 11623 delegates to the Director of Selective Service the authority to prescribe the necessary rules and regulations to carry out the provisions of the MSSA.

Under existing regulations, 48 Civilian Review Boards (CRB) were established to decide appeals of denied requests for job reassignments made by conscientious objectors who have been placed in the Alternative Service Program as Alternative Service Workers (ASW). The sole function of CRBs was to decide such appeals during a military draft. Selective Service determined that maintaining CRBs was unnecessary for it to carry out its functions because their responsibilities could be transferred to the 96 DABs, which had previously been solely responsible for deciding appeals of local board classification decisions during a military draft. The conversion will not result in a significant increase in the workload of DABs, and their primary responsibility of deciding appeals of local board decisions will be unimpeded. If it becomes necessary to accommodate an unexpectedly high workload during a draft, the number of members on a DAB could be increased to create separate panels thereof.

This conversion will have three significant benefits. First, it will eliminate the unnecessary administrative costs of maintaining separate boards for ASW appeals of denied job reassignments. Second, it will result in more frequent pre-mobilization training of board members on the requirements for deciding ASW appeals. Finally, customer service to ASWs during a military draft will be improved by doubling the number of locations for them to appeal denied job reassignments. In view of the foregoing, CRBs are abolished with their responsibilities transferred to DABs.

Implementation

To implement the conversion, the following parts and sections in 32 CFR chapter XVI are amended:

Section 1602.11—To change the definition of “District Appeal Board” to include the ability to act on cases in accordance with part 1656 (Alternative Service);

Section 1605.24—To give DABs jurisdiction to decide appeals of denied job reassignment requests;

Section 1609.1—To remove members of “civilian review boards” as uncompensated positions within Selective Service;

Section 1656.1—To remove the definition of “Civilian Review Board”, and renumber the section's definitions accordingly;

Section 1656.3—To remove the paragraph establishing CRBs, and renumber the paragraphs accordingly;

Section 1656.13—To remove paragraph “e”, which requires the establishment of CRBs, and to re-letter the section's paragraphs accordingly;

Section 1656.18—To amend paragraph “c” for conformity of citations therein to the re-lettering of paragraphs in § 1656.13;

Finally, throughout part 1656 several sections are amended to remove the words, “Civilian Review Board”, and add the words, “District Appeal Board” in their place.

Matters of Rule Making Procedure

In promulgating these amendments to Selective Service regulations, I have adhered to the regulatory philosophy and the applicable principles of regulation set forth in section 1 of Executive Order 12866, Regulatory Planning and Review. These amendments have not been reviewed by the Office of Management and Budget under that Executive Order, as they are not deemed “significant” thereunder.

Pursuant to the requirements of the Regulatory Flexibility Act (Pub. L. 96-354, 94 Stat. 1164, 5 U.S.C. 601-612), I certify that the amendments do not have a significant economic impact on a substantial number of small entities.

The Paperwork Reduction Act (44 U.S.C. chapter 35) does not apply because this rule does not contain an information collection requirement that requires approval of the Office of Management and Budget.

Certificate

Whereas, on February 6, 2004, the Director of Selective Service published a Notice of Proposed Amendments of Selective Service Regulations at 69 FR 5797; and whereas such publication complied with the publication requirement of section 13(b) of the Military Selective Service Act [50 U.S.C. App. 463(b)] in that more than 30 days have elapsed subsequent to such publication during which period the public was given an opportunity to submit comments; and whereas I certify that I have requested the view of officials named in section 2(a) of Executive Order 11623 and none of them has timely requested that the matter be referred to the President for decision.

Therefore, by virtue of the authority vested in me by the Military Selective Service Act, as amended, (50 U.S.C. App. 451 et seq.) and Executive Order 11623 of October 12, 1971, the Selective Service Regulations constituting a portion of Chapter XVI of Title 32 of the Code of Federal Regulations, are hereby amended, as stated below.

List of Subjects in 32 CFR Parts 1602, 1605, 1609, and 1656

Selective Service System.

For the reasons stated in the preamble, the Selective Service System amends 32 CFR parts 1602, 1605, 1609, and 1656 as follows:

PART 1602—DEFINITIONS

1. The authority citation for part 1602 continues to read as follows:

Authority: Military Selective Service Act (50 U.S.C. App. 451 et seq.); E.O.11623.

2. Revise § 1602.11 to read as follows:

§ 1602.11 District appeal board.

A district appeal board or a panel thereof of the Selective Service System is a group of not less than three civilian members appointed by the President to act on cases of registrants in accordance with the provisions of parts 1651 and 1656 of this chapter.

PART 1605—SELECTIVE SERVICE SYSTEM ORGANIZATION

1. The authority citation for part 1605 continues to read as follows:

Authority: Military Selective Service Act (50 U.S.C. App. 451 et seq.); E.O. 11623.

2. Amend § 1605.24 by redesignating the introductory text and paragraphs (a), (b), and (c) as paragraph (a) introductory text and paragraphs (a)(1), (2) and (3), respectively, and by adding paragraph (b) to read as follows:

§ 1605.24 Jurisdiction.

* * * * *

(b) The district appeal board shall have jurisdiction to review and to affirm or change any Alternative Service Office Manager decision appealed to it by an Alternative Service Worker pursuant to part 1656 of this chapter.

PART 1609—UNCOMPENSATED PERSONNEL

1. The authority citation for part 1609 continues to read as follows:

Authority: Military Selective Service Act (50 U.S.C. App. 451 et seq.); E.O. 11623.

2. Amend § 1609.1 by revising the first sentence to read as follows:

§ 1609.1 Uncompensated positions.

Members of local boards, district appeal boards, and all other persons volunteering their services to assist in the administration of the Selective Service Law shall be uncompensated. * * *

PART 1656—ALTERNATIVE SERVICE

1. The authority citation for part 1656 continues to read as follows:

Authority: Military Selective Service Act (50 U.S.C. App. 451 et seq.); E.O. 11623.

PART 1656—[AMENDED]

2. Amend part 1656, Alternative Service, to remove the words “Civilian Review Board” and add, in their place, the words “District Appeal Board,” in the following places:

a. §1656.11(b)(4)

b. §1656.13(d), (f), (g), and (h)

c. §1656.18(c)

§ 1656.1 [Amended]

3. Amend § 1656.1 by removing paragraph (b)(6) and redesignating paragraphs (b)(7) through (14) as paragraphs (b)(6) through (13).

§ 1656.3 [Amended]

4.-5. Amend § 1656.3 by removing paragraph (a)(10) and redesignating paragraphs (a)(11) through (13) as paragraphs (a)(10) through (12).

§ 1656.13 [Amended]

6.-7. Amend §1656.13 by removing paragraph (e) and by redesignating paragraphs (f) through (h) as paragraphs (e) through (g).

§ 1656.18 [Amended]

8. Amend § 1656.18(c) by revising the phrase “§ 1656.13(c) or (g)” to read “§ 1656.13(c) or (f)”.

Lewis C. Brodsky,
Acting Director of Selective Service.

[FR Doc. 04-8606 Filed 4-15-04; 8:45 am]

BILLING CODE 8015-01-P